DEPARTMENT OF HEALTH AND HUMAN SERVICES

Public Meeting of the President's Council on Bioethics

AGENCY: The President's Council on Bioethics, HHS.

ACTION: Notice.

SUMMARY: The President's Council on Bioethics will hold its seventh meeting, at which it will discuss, among other things, technological enhancements of human memory; the use of assisted reproduction and other technologies (including PGD) to choose the sex of children; and a presentation by Ms. Suzi Leather, chair of the Human Fertilisation and Embryology Authority (HFEA) of the United Kingdom on how the UK regulates infertility clinics and embryo research. The Council may also touch on subjects discussed at past meetings, including human cloning, embryonic stem cells, and the patentability of human organisms.

DATES: The meeting will take place Thursday, October 17, 2002, from 9 a.m. to 6 p.m. ET; and Friday, October 18, 2002, from 8:30 a.m. to 12:15 p.m. ET.

ADDRESSES: Hotel Monaco, 700 F Street, NW., Washington, DC 20004.

Public Comments: The meeting agenda will be posted at http://www.bioethics.gov. Members of the public may submit written statements for the Council's records. Please submit statements to Ms. Diane Gianelli, Director of Communications (tel. 202/296-4669 or e-mail info@bioethics.gov). The public may also express comments during the time set aside for this purpose, beginning at 5:15 p.m. ET, on Thursday, October 17, 2002. Comments will be limited to no more than five minutes per speaker or organization. Please give advance notice of such statements to Ms. Gianelli at the phone number given above, and be sure to include name, affiliation, and a brief description of the topic or nature of the statement.

FOR FURTHER INFORMATION CONTACT: Diane Gianelli, 202/296-4669, or visit http://www.bioethics.gov.

Dated: September 26, 2002.
Dean Clancy,
Executive Director, The President's Council on Bioethics.

[FR Doc. 02-25117 Filed 10-2-02; 8:45 am]

BILLING CODE 4150-24-P